DEPARTMENT OF ENERGY

Energy Information Administration

Agency Information Collection Activities: Submission for OMB Review; Comment Request

AGENCY: Energy Information Administration (EIA), Department of Energy (DOE).

ACTION: Agency information collection activities: Submission for OMB review; comment request.

SUMMARY: The EIA has submitted the energy information collection listed at the end of this notice to the Office of Management and Budget (OMB) for review and a three-year extension with revisions under section 3507(h)(1) of the Paperwork Reduction Act of 1995 (Pub. L. 104-13) (44 U.S.C. 3501 et seq.).

DATES: Comments must be filed by April 22, 2002. If you anticipate that you will be submitting comments but find it difficult to do so within that period, you should contact the OMB Desk Officer for DOE listed below as soon as possible.

ADDRESSES: Send comments to Bryon Allen, OMB Desk Officer for DOE, Office of Information and Regulatory Affairs, Office of Management and Budget. To ensure receipt of the comments by the due date, submission by FAX (202-395-7285) or e-mail (BAllen@omb.eop.gov) is recommended. The mailing address is 726 Jackson Place, NW., Washington, DC 20503. The OMB DOE Desk Officer may be telephoned at (202) 395-3087. (A copy of your comments should also be provided to EIA's Statistics and Methods Group at the address below.)

FOR FURTHER INFORMATION CONTACT: A copy of the materials submitted to OMB is available at http://www.eia.doe.gov/cneaf/electricity/page/form_417/form_417.html. Requests for additional information should be directed to Herbert Miller. To ensure timely receipt of any comments sent to EIA, submission by FAX (202-287-1705) or e-mail (herbert.miller@eia.doe.gov) is recommended. Mr. Miller's mailing address is Statistics and Methods Group (EI-70), Forrestal Building, U.S. Department of Energy, Washington, DC 20585-0670. Mr. Miller may be contacted by telephone at (202) 287-1711.

SUPPLEMENTARY INFORMATION: This section contains the following information about the energy information collection submitted to OMB for review: (1) The collection numbers and title; (2) the sponsor (i.e., the Department of Energy component); (3) the current OMB docket number (if applicable); (4) the type of request (i.e, new, revision, extension, or reinstatement); (5) response obligation (i.e., mandatory, voluntary, or required to obtain or retain benefits); (6) a description of the need for and proposed use of the information; (7) a categorical description of the likely respondents; and (8) an estimate of the total annual reporting burden (i.e., the estimated number of likely respondents times the proposed frequency of response per year times the average hours per response).

1. Form EIA-417, “Electric Emergency Incident and Disturbance Report”.

2. Security Operations/Office of Emergency Management.

3. OMB Number 1901-0288.

4. Revision and three-year approval requested.

5. Mandatory.

6. Form EIA-417 collects information on electric emergency incidents and disturbances for DOE's use in fulfilling its overall national security and other energy management responsibilities. The information will also be used by DOE for analytical purposes. Control Area Operators or Security Coordinators, as appropriate, file Form EIA-417. In Alaska, Hawaii, Puerto Rico, the U.S. Virgin Islands, and the U.S. Trust Territories, local utilities file the form. The form's instructions explain the filing requirements when a foreign entity is involved.

7. Business or other for-profit; State, local or tribal government.

8. 650 hours (175 respondents × 1.7 responses per year × 2.17 hours per response).

Statutory Authority: Section 3507(h)(1) of the Paperwork Reduction Act of 1995 (Pub. L. No. 104-13)(44 U.S.C. 3501 et seq.).

Issued in Washington, DC, March 15, 2002.
Jay H. Casselberry,
Agency Clearance Officer, Statistics and Methods Group, Energy Information Administration.

[FR Doc. 02-6817 Filed 3-20-02; 8:45 am]

BILLING CODE 6450-01-P